FEDERAL COMMUNICATIONS COMMISSION

Notice of Public Information Collection(s) Being Reviewed by the Federal Communications Commission for Extension Under Delegated Authority

August 15, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments October 23, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-B441, Washington, DC 20554.

FOR FURTHER INFORMATION CONTACT: For additional information about the information collection(s) send an e-mail to PRA@fcc.gov or contact Judith B. Herman at 202-418-0214. If you would like to obtain or view a copy of this information collection after this 60 day comment period, you may do so by visiting the FCC PRA Web page at: http://www.fcc.gov/omd/pra.

SUPPLEMENTARY INFORMATION: OMB Control No.: 3060-0132.

Title: Supplemental Information, 72-76 MHz Operational Fixed Stations.

Form No.: FCC Form 1068A.

Type of Review: Extension of a currently approved collection.

Respondents: Individuals or households; business or other for-profit, not-for-profit institutions, state, local or tribal government.

Number of Respondents: 300.

Estimated Time Per Response: .50 hours.

Frequency of Response: On occasion reporting requirement.

Total Annual Burden: 150 hours.

Annual Cost Burden: $4,500.

Privacy Act Impact Assessment: N/A.

Needs and Uses: FCC rules require that the applicant agrees to eliminate any harmful interference caused by the operation to TV reception on either channel 4 or 5 that might develop. The FCC Form 1068A is required by the Communications Act of 1934, as amended; the International Treaties and 47 CFR 90.257.

FCC staff will use the data to determine if the information submitted will meet the FCC rule requirements for the assignment of frequencies in the 72-76 MHz band.

There is no change in the estimated average burden or the number of respondents. The Commission is seeking an extension (no change in the reporting requirements) in order to obtain the full three year clearance from the Office of Management and Budget (OMB).

Federal Communications Commission.
Marlene H. Dortch,
Secretary.

[FR Doc. E6-13982 Filed 8-22-06; 8:45 am]

BILLING CODE 6712-01-P